DEPARTMENT OF JUSTICE

Notice of Lodging of Consent Decree Under the Comprehensive Environmental Response, Compensation and Liability Act

Under 28 CFR 50.7, notice is hereby given that on November 16, 2004, a proposed consent decree in United States v. Cabot Corporation, et al., Civil Action No. 2:04-cv-5317, was lodged with the United States District Court for the Eastern District of Pennsylvania.

In this action the United States sought cost recovery for costs incurred in connection with the Revere Chemical Superfund Site located in Nockamixon Township, Bucks County, Pennsylvania (the “Site”). Under the terms of the consent decree, the proposed settling defendants would pay $929,530.92 to EPA to cover past response costs.

The Department of Justice will receive for a period of thirty (30) days from the date of this publication comments relating to the consent decree. Comments should be addressed to the Assistant Attorney General, Environment and Natural Resources Division, P.O. Box 7611, U.S. Department of Justice, Washington, DC 20044-7611, and should refer to United States v. Cabot Corporation, et al., Civil Action No. 2:04-cv-5317, D.J. Ref. 90-11-2-943/3.

The consent decree may be examined at the Office of the United States Attorney, Suite 1250, 615 Chestnut Street, Philadelphia, PA 19106, and at U.S. EPA Region III, 1650 Arch Street, Philadelphia, Pennsylvania 19103-2029. A copy of the consent decree may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the consent decree without appendices, please enclose a check, in the amount of $5.75 (25 cents per page reproduction cost) payable to the U.S. Treasury. For the appendices, please add $63.75.

Robert Brook,
Assistant Section Chief, Environmental Enforcement Section, Environment and Natural Resources Division.

[FR Doc. 04-27483 Filed 12-15-04; 8:45 am]

BILLING CODE 4410-15-M